FEDERAL TRADE COMMISSION

Sunshine Act Meeting Notice

AGENCY: Federal Trade Commission.

Time and Date: 2 p.m., Monday, March 14, 2005.

Place: Federal Trade Commission Building, Room 532, 600 Pennsylvania Avenue, NW., Washington, DC 20580.

Status: Part of this meeting will be open to the public. The rest of the meeting will be closed to the public.

Matters to be Considered: Portion open to public:

(1) Oral Argument in the matter of Telebrands Corporation, et al., Docket 9313.

Portion closed to the public:

(2) Executive Session to follow Oral Argument in Telebrands Corporation, Docket 9313.

FOR FURTHER INFORMATION CONTACT: Mitch Katz, Office of Public Affairs: (202) 326-2180. Recorded Message: (202) 326-2711.

Donald S. Clark,
Secretary.

[FR Doc. 05-5022 Filed 3-10-05; 10:41 am]

BILLING CODE 6750-01-M